Proclamation 10349 of March 18, 2022

National Poison Prevention Week, 2022

By the President of the United States of America

A Proclamation

Each year, more than 2 million poisoning cases are reported in the United States—some of which are tragically fatal, but many of which are preventable. While we have made great strides in the decades since National Poison Prevention Week was first observed 60 years ago—including a decline in unintentional poisoning—poisoning remains a risk, especially for children and older Americans. During National Poison Prevention Week, we raise awareness about the dangers posed by poisonous substances, precautions people can take to prevent an incident, and how to respond in a poison emergency.

Each year, an average of 31 children die from unintended poisonings at home, and an estimated 75,000 children under the age of five end up in hospital emergency departments from poisoning. Approximately 85 percent of unintentional poisonings take place in the home where medicines and harmful chemicals are stored.

To prevent children from unintentionally ingesting poisonous household products, it is important to keep these products out of their sight and beyond their reach. Items such as hand sanitizer, laundry detergent, medications, coin cell batteries, cleaning products, and liquid nicotine should be stored in child-resistant packaging. Medications should be safely secured, and if unused, properly discarded. For elderly Americans—particularly those who may have become isolated due to the pandemic—it is important that household products are secured in their original packaging and that medications are clearly labeled to avoid accidental ingestion or the mistaking of medications.

Health professionals working around the clock and responding to millions of calls each year at poison control centers are critical to our Nation's response. They not only help the public in need of assistance or information, they are also a tremendous asset to health care providers, health departments, law enforcement, and first responders.

If you suspect that you or someone else has been poisoned, do not wait for signs of poisoning. Immediately call the Poison Control Help line at 800-222-1222. For more information, go to poisonhelp.hrsa.gov.

Poison awareness, control, and education are essential to saving lives. During National Poison Prevention Week, we recommit to raising awareness about the dangers of accidental poisonings and taking the necessary precautions to prevent and respond quickly to these incidents and protect our loved ones.

To encourage Americans to learn more about the dangers of unintentional poisonings and to take appropriate preventive measures, on September 26, 1961, the United States Congress, by joint resolution (75 Stat. 681), authorized and requested the President to issue a proclamation designating the third week of March each year as “National Poison Prevention Week.”

NOW, THEREFORE, I, JOSEPH R. BIDEN JR., President of the United States of America, do hereby proclaim March 20 through March 26, 2022, to be National Poison Prevention Week. I call upon all Americans to observe this week by taking actions to safeguard their families and friends from poisonous products, chemicals, and medicines often found in our homes, and to raise awareness of these dangers to prevent accidental injuries and deaths.

IN WITNESS WHEREOF, I have hereunto set my hand this eighteenth day of March, in the year of our Lord two thousand twenty-two, and of the Independence of the United States of America the two hundred and forty-sixth.

[FR Doc. 2022-06248

Filed 3-22-22; 8:45 am]

Billing code 3395-F2-P